ENVIRONMENTAL PROTECTION AGENCY

[EPA-HQ-SFUND-2015-0100; FRL-9341-01-OLEM]

Proposed Information Collection Request; Comment Request; Renewal of Information Collection Request for the Continuous Release Reporting Requirement Including Analysis for Use of Continuous Release Reporting Forms, EPA ICR No. 1445.15, OMB Control Number 2050-0086

AGENCY: Environmental Protection Agency (EPA).

ACTION: Notice.

SUMMARY: The Environmental Protection Agency (EPA) is planning to submit an information collection request (ICR), “Renewal of Information Collection Request for the Continuous Release Reporting Requirement Including Analysis for Use of Continuous Release Reporting Forms” (EPA ICR No. 1445.15, OMB Control No. 2050-0086) to the Office of Management and Budget (OMB) for review and approval in accordance with the Paperwork Reduction Act. Before doing so, EPA is soliciting public comments on specific aspects of the proposed information collection as described in Supplementary Information. This is a proposed extension of the ICR, which is currently approved through November 30, 2022. An agency may not conduct or sponsor and a person is not required to respond to a collection of information unless it displays a currently valid OMB control number.

DATES: Comments must be submitted on or before April 25, 2022.

ADDRESSES: Submit your comments, referencing Docket ID No. EPA-HQ-SFUND-2015-0100, to: (1) EPA online using www.regulations.gov (our preferred method), by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents which explain in detail the information that EPA will be collecting are available in the public docket for this ICR. The docket can be viewed online at http://www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Pursuant to section 3506(c)(2)(A) of the PRA, in the first FR notice published on May 30, 2018, EPA solicited comments and information pertaining to the Continuous Release Reporting Requirements (CRRR) under Section 103(a) of CERCLA, as amended. CRRR requires the person in charge of a vessel or facility immediately to notify the National Response Center (NRC) of a hazardous substance release into the environment if the amount of the release equals or exceeds the substance's reportable quantity (RQ). The RQ of every hazardous substance can be found in Table 302.4 of 40 CFR 302.4. If the source and chemical composition of the continuous release do not change and the level of the continuous release does not significantly increase, a follow-up written report to the EPA Region one year after submission of the initial written report is also required. The person in charge must notify the NRC and EPA Region of a change in the source or composition of the release, and under section 103(a) of CERCLA, a significant increase must be reported immediately to the NRC. Finally, any change in information submitted in support of a continuous release notification must be reported to the EPA Region. Section 103(f)(2) of CERCLA provides facilities relief from per-occurrence notification release requirements if the subject release is continuous and stable in quantity and rate.

The Continuous Release Reporting Requirement allows the Federal government to determine whether a Federal response action is required to control or mitigate any potential adverse effects to public health, welfare or the environment. The release information is also available to EPA program offices and other Federal agencies that evaluate the potential need for additional regulations, new permitting requirements for specific substances or sources, or improved emergency response planning. State and local government authorities and facilities subject to the CRRR use release information for local emergency response planning. The public, which has access to release information through the Freedom of Information Act, may request release information on what types of releases are occurring in different localities and what actions, if any, are being taken to protect public health, welfare and the environment. An agency may not conduct or sponsor, and a person is not required to respond to, a collection of information unless it displays a currently valid OMB control number.

The burden estimates, numbers and types of respondents, wage rates and unit and total costs for this ICR renewal will be revised and updated, if needed, during the 60-day comment period while the ICR Supporting Statement is undergoing review at OMB.

Form Numbers: EPA Form 6100-10, Continuous Release Reporting Form.

Respondents/affected entities: Entities potentially affected by this action are not defined. The use and release of hazardous substances are pervasive throughout industry. EPA expects many different industrial categories to report hazardous substance releases under the provisions of the CRRR. No one industry sector or group of sectors is disproportionately affected by the information collection burden.

Respondent's obligation to respond: Mandatory if respondents want reduced reporting for continuous releases. See the abstract for details.

Estimated number of respondents: 4,192.

Frequency of response: On occasion.

Total estimated burden: 334,472 hours (average per year). Burden is defined at 5 CFR 1320.03(b).

Total estimated cost: $19,797,899 (average per year), including $243,200 annualized capital or operation & maintenance costs (average per year).

Changes in estimates: Any change in burden or cost resulting from the 60-day OMB review period will be described and explained in this section when the updated ICR Supporting Statement is completed.

Donna Salyer,
Director, Office of Emergency Management.

[FR Doc. 2022-03861 Filed 2-23-22; 8:45 am]

BILLING CODE 6560-50-P